DEPARTMENT OF COMMERCE

National Oceanic and Atmospheric Administration

[I.D. 092203B]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Law Enforcement Advisory Panel (LEAP).

DATES: This meeting will be held on Tuesday, October 14, 2003 from 1 to 5 p.m.

ADDRESSES: This meeting will be held at the Omni Hotel - Marina Tower, 900 North Shoreline Boulevard, Corpus Christi, TX 78401; telephone: 361-887-1600.

Council address: Gulf of Mexico Fishery Management Council, 3018 U.S. Highway 301 North, Suite 1000, Tampa, FL 33619.

FOR FURTHER INFORMATION CONTACT: Richard Leard, Senior Fishery Biologist, Gulf of Mexico Fishery Management Council; telephone: 813-228-2815.

SUPPLEMENTARY INFORMATION: The LEAP will convene to review an Options Paper for Amendment 13 to the Shrimp Fishery Management Plan (FMP) that includes alternatives to set definitions of maximum sustainable yield, optimum yield (OY), overfishing, and the overfished condition of shrimp stocks as well as improve effort estimates and the bycatch reporting methodology. The LEAP will also review an Options Paper for Amendment 14 that includes options to cap or reduce effort to achieve OY with ancillary benefits of further reducing bycatch from shrimp trawling. The LEAP will also review an amendment to reduce fishing mortality on red grouper, Amendment 22 to the Reef Fish FMP to establish a rebuilding plan for red snapper, and an Options Paper to reduce fishing mortality on vermilion snapper. Finally, the LEAP will review a scoping document that includes potential changes to a wide range of regulations in the Coastal Migratory Pelagics FMP in both the Gulf and Atlantic. The LEAP will discuss possession of both bag limit and commercially caught fish simultaneously and a matter regarding when a violation is determined to have occurred.

The LEAP consists of principal law enforcement officers in each of the Gulf states as well as the NMFS, the U.S. Coast Guard, and the NOAA's General Counsel. A copy of the agenda and related materials can be obtained by calling the Council office at 813-228-2815.

Although other non-emergency issues not on the agendas may come before the LEAP for discussion, in accordance with the Magnuson-Stevens Fishery Conservation and Management Act (Magnuson-Stevens Act), those issues may not be the subject of formal action during this meeting. Actions of the LEAP will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford at the Council (see ADDRESSES) by October 7, 2003.

Dated: September 22, 2003.
Richard W. Surdi,
Acting Director, Office of Sustainable Fisheries, Office of Sustainable Fisheries.

[FR Doc. 03-24393 Filed 9-25-03; 8:45 am]

BILLING CODE 3510-22-S